DEPARTMENT OF HEALTH AND HUMAN SERVICES

Centers for Disease Control and Prevention

[30Day-05-0106]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

Preventive Health and Health Services Block Grant, Annual Application and Reports, OMB No. 0920-0106—Revision—National Center for Chronic Disease Prevention and Health Promotion (NCCDPHP), Centers for Disease Control and Prevention (CDC).

Background and Brief Description

In 1994, OMB approved the collection of information provided in the grant applications and annual reports for the Preventive Health and Health Services (PHHS) Block Grant (OMB No. 0920-0106). CDC is requesting OMB clearance for this legislatively mandated information collection. The request is to approve the development and adherence to Healthy People 2010 (the Nation's Health Objectives) which was released in the Spring of 2000. The PHHS block grant is mandated according to section 1904 to adhere to the Healthy People framework.

This information, which is collected through the application forms from the official State health agencies, is required from section 1905 of the Public Health Service Act. There is a slight change in the proposed information collection from previous years. The changes include more program specific information and the relationship of block funded activities to program strategy. The information collected from the annual report forms is required by section 1906. The development of a PHHS block grant Web page, with data Web links from existing federal databases, will be used to coincide with the collection of uniform data for the annual report. The ability to collect data through Internet accessibility will allow for a more streamlined and efficient use of data processing by the states and reduce the states' burden of duplicate reporting on outcome and risk factor data. There is no cost to respondents except their time to complete the application/report. The total estimated annualized burden hours are 4270.

Estimated Annualized Burden Table
Forms | No. of respondents | No. of responses/respondent | Average burden per response (hours)
Annual Applications | *61 | 1 | 30
Annual Reports | 61 | 1 | 40
* There are 61 respondents (Official State Health Agencies from the 50 States, the District of Columbia, 8 U.S. Territories, and two American Indian Tribes (Santee Sioux and Kickapoo of Kansas). The response burden consists of an annual application and an annual report (with selected summary data items).

Dated: August 11, 2005.
Joan F. Karr,
Acting Reports Clearance Officer, Centers for Disease Control and Prevention.

[FR Doc. 05-16366 Filed 8-23-05; 8:45 am]

BILLING CODE 4163-18-P